DEPARTMENT OF AGRICULTURE

Rural Utilities Service

Information Collection Activity; Comment Request

AGENCY: Rural Utilities Service, USDA.

ACTION: Notice and request for comments.

SUMMARY: In accordance with the Paperwork Reduction Act of 1995, the United States Department of Agriculture's Rural Utilities Service (RUS) invites comments on this information collection for which RUS intends to request approval from the Office of Management and Budget (OMB).

DATES: Comments on this notice must be received by May 9, 2017.

FOR FURTHER INFORMATION CONTACT: Thomas P. Dickson, Acting Director, Program Development and Regulatory Analysis, USDA Rural Utilities Service, 1400 Independence Avenue SW., STOP 1522, Room 5164-S, Washington, DC 20250-1522. Telephone: (202) 690-4492. FAX: (202) 720-8435. Email: Thomas.Dickson@wdc.usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see 5 CFR 1320.8(d)). This notice identifies an information collection that RUS is submitting to OMB for extension.

Comments are invited on: (a) Whether the proposed collection of information is necessary for the proper performance of the functions of the Agency, including whether the information will have practical utility; (b) The accuracy of the Agency's estimate of the burden of the proposed collection of information including the validity of the methodology and assumptions used; (c) Ways to enhance the quality, utility and clarity of the information to be collected; and (d) Ways to minimize the burden of the collection of information on those who are to respond, including through the use of appropriate automated, electronic, mechanical, or other technological collection techniques or other forms of information technology. Comments may be sent to: Thomas P. Dickson, Acting Director, Program Development and Regulatory Analysis, Rural Utilities Service, U.S. Department of Agriculture, 1400 Independence Avenue SW., STOP 1522, Room 5164-S, Washington, DC 20250-1522. Telephone: (202) 690-4492, FAX: (202) 720-8435. Email: Thomas.Dickson@wdc.usda.gov.

Title: 7 CFR part 1744, subpart B, Lien Accommodations and Subordination Policy.

OMB Control Number: 0572-0126.

Type of Request: Extension of a currently approved information collection.

Abstract: RUS borrowers and other organizations providing telecommunications in rural areas, due to changes in the telecommunications industry, including deregulation and technological developments, may consider undertaking projects that provide new telecommunications services and other telecommunications services not ordinarily financed by RUS. Although some of these services may not be eligible for financing under the Rural Electrification Act of 1936 (RE Act), the services may nevertheless advance RE Act objectives where the borrower obtains financing from private lenders. To facilitate the financing of those projects and services, this program assists in facilitating funding from non-RUS sources in order to meet the growing capital needs of rural Local Exchange Carriers (LECs).

The information collected for lien accommodation requests is used by RUS to ascertain a borrower's level of financial strength and, upon agency approval of the lien accommodation, ensures that the government's loan security interest is protected.

Estimate of Burden: Public reporting burden for this collection of information is estimated to average .50 hour per response.

Respondents: Business or other for-profit and non-profit institutions.

Estimated Number of Respondents: 3.

Estimated Number of Responses per Respondent: 1.

Estimated Total Annual Burden on Respondents: 2.

Copies of this information collection can be obtained from Rebecca Hunt, Program Development and Regulatory Analysis, at (202) 205-3660, FAX: (202) 720-8435. Email: Rebecca.Hunt@wdc.usda.gov.

All responses to this notice will be summarized and included in the request for OMB approval. All comments will also become a matter of public record.

Dated: February 22, 2017.
Christopher A. McLean,
Acting Administrator, Rural Utilities Service.

[FR Doc. 2017-04767 Filed 3-9-17; 8:45 am]

BILLING CODE 3410-15-P